DEPARTMENT OF VETERANS AFFAIRS

Scientific Review and Evaluation Board for Health Services Research and Development Service; Notice of Meeting

The Department of Veterans Affairs gives notice under Public Law 92-463 (Federal Advisory Committee Act) that a meeting of the Scientific Review and Evaluation Board for Health Services Research and Development Service will be held at the Crowne Plaza Hotel, 14th and K Streets, NW., Washington, DC, from June 19 through 21, 2002. The Nursing Research Initiative review will convene on June 19, from 1 p.m. until 5 p.m. The investigator Initiated Research review will convene on June 19, from 7 p.m. until 9 p.m., on June 20, from 8 a.m. until 5 p.m. and on June 21, from 8 a.m. until 4 p.m. The purpose of the meeting is to review research and development applications concerned with the measurement and evaluation of health care services and with testing new methods of health care delivery and management, and nursing research. Applications are reviewed for scientific and technical merit. Recommendations regarding funding are prepared for the Chief Research and Development Officer.

This meeting will be open to the public at the start of the June 19 session for approximately one half-hour to cover administrative matters and to discuss the general status of program. The closed portion of the meeting involves discussion, examination, reference to, and oral review of staff and consultant critiques of research protocols and similar documents. During this portion of the meeting, discussion and recommendations will include qualifications of the personnel conducting the studies (the disclosure of which would constitute a clearly unwarranted invasion of personal privacy), as well as research information (the premature disclosure of which would be likely to frustrate significantly the implementation of proposed agency action regarding such research projects). As provided by the subsection 10(d) of Public Law 92-463, as amended by Public Law 94-409, closing portions of these meetings is in accordance with 5 U.S.C. 552(c)(6) and (9)(B).

Those who are planning to attend the open session or wishing further information should contact Dr. Martha Bryan, Assistant Director, Scientific Review (124F), Health Services Research and Development Service, Department of Veterans Affairs, 1400 Eye Street, NW., Suite 780, Washington, DC at (202) 408-3665.

Dated: May 20, 2002.
Nora E. Egan,
Committee Management Officer.

[FR Doc. 02-13099 Filed 5-23-02; 8:45 am]

BILLING CODE 8320-01-M